DEPARTMENT OF THE INTERIOR

National Park Service

[NPS-WASO-NRSS- NPS0034116 PPWONRADC0; PPMRSNR1Y.NM0000; 222P103601; OMB Control Number 1024-NEW]

Agency Information Collection Activities; Visitor Perceptions of Climate Change Study

AGENCY: National Park Service, Interior.

ACTION: Notice of information collection; request for comment.

SUMMARY: In accordance with the Paperwork Reduction Act of 1995 we, the National Park Service (NPS) are proposing a new information collection.

DATES: Interested persons are invited to submit comments on or before December 13, 2022.

ADDRESSES: Send your comments on this information collection request (ICR) by mail to Phadrea Ponds, NPS Information Collection Clearance Officer, 12201 Sunrise Valley Drive (MS-242), Reston, Virginia 20192; or by email to phadrea_ponds@nps.gov. Please reference Office of Management and Budget (OMB) Control Number 1024-NEW (PVIA) in the subject line of your comments.

FOR FURTHER INFORMATION CONTACT: To request additional information about this ICR, contact Larry Perez, Communications Coordinator, NPS Climate Change Response Program by email at larry_perez@nps.gov or by telephone at 970-267-2136. Please reference OMB Control Number 1024-NEW (PVIA) in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection, Interpretation, and Research in System (54 U.S.C. 100701) statutes to collect information used to enhance the management and planning of parks and their resources. The Climate Change Response Program (administered through the Natural Resource Stewardship and Science directorate) and the U.S. Fish and Wildlife Service (FWS) Human Dimensions Branch (administered through the Natural Resource Program Center within the National Wildlife Refuge System) are partnering to conduct a voluntary, on-site survey to understand park and refuge visitors' attitudes, perceptions, and beliefs about climate-related topics.

Both the National Park System and the National Wildlife Refuge System protect places, resources, and experiences of importance to the American public. But climate change has serious implications for the protection of landscapes, ecosystems, recreational opportunities, and visitor experiences in parks and refuges. Thus, the NPS and FWS seek to better understand visitors' understanding and concerns about climate change.

Both the NPS and FWS administer high-quality programs of interpretation and education, and communication about pressing, climate-related topics is increasingly necessary. Audience analysis is important for guiding such efforts. Results of this survey will provide insight into topics, methods, and/or communications media of most interest to park and refuge visitors.

Title of Collection: Visitor Perceptions of Climate Change Study.

OMB Control Number: 1024-NEW.

Form Number: None.

Type of Review: New.

Respondents/Affected Public: General Public.

Total Estimated Number of Annual Respondents: 6,720.

Estimated Completion Time per Response: 7 minutes.

Total Estimated Number of Annual Burden Hours: 784.

Respondent's Obligation: Voluntary.

Frequency of Collection: Once.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2022-22369 Filed 10-13-22; 8:45 am]

BILLING CODE 4312-52-P